DEPARTMENT OF HEALTH AND HUMAN SERVICES

Office of the Secretary

[Document Identifier HHS-OS-18521-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before April 15, 2013.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-18521-60D for reference.

Information Collection Request Title: Evaluation of Implementation of the Viral Hepatitis Action Plan.

Abstract: In response to the viral hepatitis epidemic in the United States, the Department of Health and Human Services (HHS) released the Action Plan for the Prevention, Care, and Treatment of Viral Hepatitis (Action Plan) in May 2011 to provide a comprehensive strategic plan to address viral hepatitis B and C. Implementation of the Action Plan requires actions across a variety of agencies including national, state/local government, community-based organizations, and the private sector. The Evaluation of Implementation of the Viral Hepatitis Action Plan will assess state and local response to activities that support the Action Plan, identify barriers to implementation and strategies to address these barriers, and inform future viral hepatitis efforts.

Need and Proposed Use of the Information: The purpose of this project is to evaluate the state and local response to and implementation of the Action Plan and examine viral hepatitis activities that are occurring in the four jurisdictions that have been pre-selected for the evaluation: Alabama, Massachusetts, New York, and Washington State. The information collected through the evaluation will position OASH to better understand implementation of the Action Plan at the state and local levels and barriers that might be occurring in the selected jurisdictions. The evaluation will also serve to examine the landscape of viral hepatitis activities that are taking place in the selected jurisdictions. The results of the evaluation will enable OASH to understand and identify potential strategies to strengthen local implementation of the Action Plan, address barriers, and inform future implementation efforts.

Likely Respondents: State Viral Hepatitis Prevention Coordinators (CDC-funded state health department staff); other state and local health department stakeholders such as HIV and Immunization Program staff; national organization representatives who are involved in viral hepatitis program development and advocacy; local viral hepatitis stakeholders including health care and substance abuse treatment providers, non-profit community-based organization staff and volunteers, and others identified by the State Viral Hepatitis Prevention Coordinator (see above).

Burden Statement: The estimated burden for data collection involves scheduling and conducting key informant interviews among a variety of stakeholder groups including the CDC-funded Adult Viral Hepatitis Prevention Coordinators, state and local health departments, community-based organizations, correctional facilities, and healthcare providers. These interviews will be conducted in four states (Alabama, Massachusetts, New York, and Washington). Up to twelve additional interviews will also be conducted with select national-level stakeholders. The total annual burden hours estimated for this ICR are summarized in the table below.

Total Estimated Annualized Burden—Hours
Form name | Number of respondents | Number of responses per respondent | Average burden per response (in hours) | Total burden hours
Adult Viral Hepatitis Prevention Coordinators | 4 | 1 | 1.5 | 6
State and local health departments | 16 | 1 | 45/60 | 12
Community-based organizations | 12 | 1 | 30/60 | 6
National organizations | 12 | 1 | 30/60 | 6
Correctional facilities | 12 | 1 | 30/60 | 6
Healthcare providers | 12 | 1 | 30/60 | 6
Total |  |  |  | 42

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Keith A. Tucker,
Information Collection Clearance Officer.

[FR Doc. 2013-03401 Filed 2-13-13; 8:45 am]

BILLING CODE 4150-47-P